NATIONAL TRANSPORTATION SAFETY BOARD

Sunshine Act Meeting

Time and Date: 9:30 a.m., Tuesday, March 31, 2009.

Place: NTSB Conference Center, 429 L'Enfant Plaza, SW., Washington, DC 20594.

Status: The one item is open to the public.

Matter to be Considered: 7989A Railroad Accident Report—Collision of Amtrak Passenger Train 371 and Norfolk Southern Railway Freight Train 23M, near Chicago, Illinois, November 30, 2007 (DCA-08-MR-003).

News Media Contact: Telephone: (202) 314-6100.

Individuals requesting specific accommodations should contact Rochelle Hall at (202) 314-6305 by Friday, March 27, 2007.

The public may view the meeting via a live or archived Webcast by accessing a link under “News & Events” on the NTSB home page at http://www.ntsb.gov.

FOR FURTHER INFORMATION CONTACT: Vicky D'Onofrio, (202) 314-6410.

Dated: March 18, 2009.
Vicky D'Onofrio,
Federal Register Liaison Officer.

[FR Doc. E9-6269 Filed 3-18-09; 4:15 pm]

BILLING CODE 7533-01-P